INTERNATIONAL TRADE COMMISSION

[Investigation Nos. 701-TA-695-698 and 731-TA-1643-1644 and 1646-1657 (Final)]

Aluminum Extrusions From China, Colombia, Ecuador, India, Indonesia, Italy, Malaysia, Mexico, South Korea, Taiwan, Thailand, Turkey, United Arab Emirates, and Vietnam; Revised Schedule for the Subject Investigations

AGENCY: United States International Trade Commission.

ACTION: Notice.

DATES: August 12, 2024.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On May 7, 2024, the Commission established a schedule for the conduct of the final phase of the subject investigations (89 FR 45677, May 23, 2024). Subsequently, the U.S. Department of Commerce (“Commerce”) issued a memorandum tolling certain statutory and regulatory deadlines by a total of seven days (Memorandum to the Record, Tolling of Deadlines for Antidumping and Countervailing Duty Proceedings, July 22, 2024). The Commission, therefore, is revising its schedule to conform with Commerce's new schedule.

The Commission's revised dates in the schedule are as follows: the prehearing staff report in the final phase of these investigations will be placed in the nonpublic record on September 17, 2024, and a public version will be issued thereafter, pursuant to § 207.22 of the Commission's rules; the deadline for filing prehearing briefs is 5:15 p.m. on September 24, 2024; if a brief contains business proprietary information, a nonbusiness proprietary version is due the following business day. Requests to appear at the hearing must be filed with the Secretary to the Commission not later than 5:15 p.m. on September 25, 2024; the prehearing conference will be held at the U.S. International Trade Commission Building on September 27, 2024, if deemed necessary. Parties shall file and serve written testimony and presentation slides in connection with their presentation at the hearing by no later than 4:00 p.m. on September 30, 2024. The hearing will be held at the U.S. International Trade Commission Building at 9:30 a.m. on October 1, 2024. The deadline for filing posthearing briefs is 5:15 p.m. on October 8, 2024. Any person who has not entered an appearance as a party to the investigations may submit a written statement of information pertinent to the subject of the investigations, including statements of support or opposition to the petition, on or before October 8, 2024. On October 23, 2024, the Commission will make available to parties all information on which they have not had an opportunity to comment. Parties may submit final comments on this information on or before October 25, 2024. The deadline for filing appearances is 21 days before the hearing.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: August 12, 2024.
Lisa Barton,
Secretary to the Commission.

[FR Doc. 2024-18355 Filed 8-15-24; 8:45 am]

BILLING CODE 7020-02-P